DEPARTMENT OF HEALTH AND HUMAN SERVICES

National Institutes of Health

Office of the Secretary Notice of Meeting

Notice is hereby given of the cancellation of the Muscular Dystrophy Coordinating Committee meeting, October 4, 2017, 8:30 a.m. to 4:30 p.m., National Institutes of Health, Neuroscience Center, 6001 Executive Boulevard, Conference Room C/D, Bethesda, MD 20852 which was published in the Federal Register on August 11, 2017, 82 FR 37595, pages 37595-37596.

(Catalogue of Federal Domestic Assistance Program Nos. 93.853, Clinical Research Related to Neurological Disorders; 93.854, Biological Basis Research in the Neurosciences, National Institutes of Health, HHS)

Dated: August 22, 2017.
Sylvia L. Neal,
Program Analyst, Office of Federal Advisory Committee Policy.

[FR Doc. 2017-18123 Filed 8-25-17; 8:45 am]

BILLING CODE 4140-01-P